Proclamation 8837 of June 11, 2012

Flag Day and National Flag Week, 2012

By the President of the United States of America

A Proclamation

Ninety-six years ago, our Nation first came together to celebrate Flag Day—an occasion when President Woodrow Wilson asked us to “stand with united hearts for an America which no man can corrupt, no influence draw away from its ideals, no force divide against itself.” This week, we mark nearly one century since that historic proclamation, and more than two centuries since the Second Continental Congress brought 13 United States under a single standard.

For over 200 years, our flag has proudly represented our Nation and our ideals at home and abroad. It has billowed above monuments and memorials, flown beside the halls of government, stood watch over our oldest institutions, and graced our homes and storefronts. Generations of service members have raised our country's colors over military bases and at sea, and generations of Americans have lowered them to mourn those we have lost. Though our flag has changed to reflect the growth of our Republic, it will forever remain an emblem of the ideals that inspired our great Nation: liberty, democracy, and the enduring freedom to make of our lives what we will.

As we reflect on our heritage, let us remember that our destiny is stitched together like those 50 stars and 13 stripes. In red, white, and blue, we see the spirit of a Nation, the resilience of our Union, and the promise of a future forged in common purpose and dedication to the principles that have always kept America strong.

To commemorate the adoption of our flag, the Congress, by joint resolution approved August 3, 1949, as amended (63 Stat. 492), designated June 14 of each year as “Flag Day” and requested that the President issue an annual proclamation calling for its observance and for the display of the flag of the United States on all Federal Government buildings. The Congress also requested, by joint resolution approved June 9, 1966, as amended (80 Stat. 194), that the President annually issue a proclamation designating the week in which June 14 occurs as “National Flag Week” and call upon citizens of the United States to display the flag during that week.

NOW, THEREFORE, I, BARACK OBAMA, President of the United States of America, do hereby proclaim June 14, 2012, as Flag Day and the week beginning June 10, 2012, as National Flag Week. I direct the appropriate officials to display the flag on all Federal Government buildings during that week, and I urge all Americans to observe Flag Day and National Flag Week by displaying the flag. I also call upon the people of the United States to observe with pride and all due ceremony those days from Flag Day through Independence Day, also set aside by the Congress (89 Stat. 211), as a time to honor America, to celebrate our heritage in public gatherings and activities, and to publicly recite the Pledge of Allegiance to the Flag of the United States of America.

IN WITNESS WHEREOF, I have hereunto set my hand this eleventh day of June, in the year of our Lord two thousand twelve, and of the Independence of the United States of America the two hundred and thirty-sixth.

[FR Doc. 2012-14743

Filed 6-14-12; 8:45 am]

Billing code 3295-F2-P